DEPARTMENT OF JUSTICE

Notice of Lodging Proposed Consent Decree

In accordance with Departmental Policy, 28 CFR 50.7, notice is hereby given that a proposed amended consent decree in United States v. JMB/Urban Development Company, S.D. Ohio, Civ. No. C2-92-976, was lodged with the United States District Court for the Southern District of Ohio on August 9, 2000. This proposed Amended Consent Decree concerns a complaint filed by the United States of America against JMB/Urban Development Company, and Land at Sawmill Place Limited Partnership, pursuant to section 301 of the Clean Water Act, 33 U.S.C. 1311, to obtain injunctive relief from the Defendants for alleged unauthorized wetland filling activities at the Sawmill Road site in Columbus, Ohio.

The proposed Amended Consent Decree requires creation and maintenance of 37.3 acres of jurisdictional wetlands, and integration of the site into a 75-acre environmental and educational area.

The Department of Justice will accept written comments relating to this proposed Consent Decree for thirty (30) days from the date of publication of this notice. Please address comments to Daniel R. Dertke, Senior Attorney, Environmental Defense Section, Environment and Natural Box 23986, Washington, DC 20026-3986 and refer to United States v. JMB/Urban Development Company, DJ #90-5-1-1-4097.

The proposed Amended Consent Decree may be examined at the Clerk's Office, United States District Court for the Southern District of Ohio, 260 U.S. Courthouse, 85 Marconi Boulevard, Columbus, Ohio. In addition, the proposed Consent Decree may be viewed on the World Wide Web at http://www.usdoj.gov/enrd/enrd-home.html.

Letitia J. Grishaw,
Chief, Environmental Defense Section, Environment and Natural Resources Division.

[FR Doc. 00-20887 Filed 8-16-00; 8:45 am]

BILLING CODE 4410-15-M